DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, Fertility Supplement.

OMB Control Number: 0607-0610.

Form Number(s): There are no forms. We conduct all interviews on computers.

Type of Request: Regular Submission.

Number of Respondents: 30,000.

Average Hours per Response: 1.0 minutes.

Burden Hours: 500.

Needs and Uses: This survey provides information used mainly by government and private analysts to project future population growth, to analyze child spacing, and to aid policymakers in their decisions affected by changes in family size and composition. Past studies have discovered noticeable changes in the patterns of fertility rates and the timing of the first birth. Potential needs for government assistance, such as aid to families with dependent children, child care, and maternal health care for single parent households, can be estimated using Current Population Survey characteristics matched with fertility data.

Affected Public: Individuals or households.

Frequency: Biennial.

Respondent's Obligation: Voluntary.

Legal Authority: Title 13 U.S.C. Sections 141, 182 authorize the collection of this information on individuals and households.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: January 13, 2016.
Glenna Mickelson,
Management Analyst, Office of the Chief Information Officer.

[FR Doc. 2016-00830 Filed 1-15-16; 8:45 am]

BILLING CODE 3510-07-P